DEPARTMENT OF ENERGY

10 CFR Part 431

[Docket Number EERE-2012-BT-STD-0029]

RIN 1904-AC82

Energy Conservation Program: Energy Conservation Standards for Packaged Terminal Air Conditioners and Packaged Terminal Heat Pumps; Correction

AGENCY: Office of Energy Efficiency and Renewable Energy, Department of Energy.

ACTION: Final rule; correction.

SUMMARY: On July 21, 2015, the U.S. Department of Energy published a final rule amending energy conservation standards for packaged terminal air conditioners and packaged terminal heat pumps. 80 FR 43162. This correction addresses a table labeling error in that final rule.

DATES: Effective Date: September 21, 2015.

FOR FURTHER INFORMATION CONTACT: Mr. John Cymbalsky, U.S. Department of Energy, Office of Energy Efficiency and Renewable Energy, Building Technologies Office, Mailstop EE-5B, 1000 Independence Avenue SW., Washington, DC 20585-0121. Telephone: (202) 586-0371. Email: pachaged_terminal_equipement@ee.doe.gov.

Jennifer Tiedeman, U.S. Department of Energy, Office of the General Counsel, GC-33, 1000 Independence Avenue SW., Washington, DC 20585-0121. Telephone: (202) 287-6111. Email: Jennifer.Tiedeman@hq.doe.gov.

SUPPLEMENTARY INFORMATION: The U.S. Department of Energy (DOE) published a final rule in the Federal Register on July 21, 2015 (“the July 2015 final rule”) amending energy conservation standards for packaged terminal air conditioners and packaged terminal heat pumps 80 FR 43162. This correction addresses a table labeling error in the regulatory text of the July 2015 final rule. The instruction amending 10 CFR 431.97 in that rule revised paragraph (c) and incorrectly referenced the tables within as tables 4 and 5. This instruction put the table numbers in conflict with a previous amendment of July 17, 2015, which incorporated table 4 into paragraph (b). 80 FR 42614. The substance of the tables is correct, however, and is to be retained. In order to remedy this error, DOE is issuing a final rule correction to eliminate any table number conflicts, as set forth below.

This rule corrects in 10 CFR 431.97, paragraph (c) all references to Table 4 and Table 5 to read as Table 5 and Table 6, respectively. The effective date for this rule is September 21, 2015.

Correction

In FR Doc. 2015-16897, published in the issue of Tuesday, July 21, 2015 (80 FR 43162), on page 43212, in the second column, amendatory instruction 2 is corrected to read as follows:

2. Amend § 431.97 by revising paragraph (c) to read as follows:

§ 431.97 Energy efficiency standards and their compliance dates.

* * * * *

(c) Each non-standard size packaged terminal air conditioner (PTAC) and packaged terminal heat pump (PTHP) manufactured on or after October 7, 2010 must meet the applicable minimum energy efficiency standard level(s) set forth in Table 5 of this section. Each standard size PTAC manufactured on or after October 8, 2012, and before January 1, 2017 must meet the applicable minimum energy efficiency standard level(s) set forth in Table 5 of this section. Each standard size PTHP manufactured on or after October 8, 2012 must meet the applicable minimum energy efficiency standard level(s) set forth in Table 5 of this section. Each standard size PTAC manufactured on or after January 1, 2017 must meet the applicable minimum energy efficiency standard level(s) set forth in Table 6 of this section.

Table 5 to § 431.97—Minimum Efficiency Standards for PTAC and PTHP
Equipment type | Category | Cooling capacity | Efficiency level | Compliance date: products manufactured on and after . . .
PTAC | Standard Size | <7,000 Btu/h | EER = 11.7 | October 8, 2012.²
|  | ≥7,000 Btu/h and ≤15,000 Btu/h | EER = 13.8−(0.3 × Cap ¹) | October 8, 2012.²
|  | >15,000 Btu/h | EER = 9.3 | October 8, 2012.²
| Non-Standard Size | <7,000 Btu/h | EER = 9.4 | October 7, 2010.
|  | ≥7,000 Btu/h and ≤15,000 Btu/h | EER = 10.9−(0.213 × Cap ¹) | October 7, 2010.
|  | >15,000 Btu/h | EER = 7.7 | October 7, 2010.
PTHP | Standard Size | <7,000 Btu/h | EER = 11.9 COP = 3.3 | October 8, 2012.
|  | ≥7,000 Btu/h and ≤15,000 Btu/h | EER = 14.0−(0.3 × Cap ¹) COP = 3.7−(0.052 × Cap ¹) | October 8, 2012.
|  | >15,000 Btu/h | EER = 9.5 COP = 2.9 | October 8, 2012.
| Non-Standard Size | <7,000 Btu/h | EER = 9.3 COP = 2.7 | October 7, 2010.
|  | ≥7,000 Btu/h and ≤15,000 Btu/h | EER = 10.8−(0.213 × Cap ¹) COP = 2.9−(0.026 × Cap ¹) | October 7, 2010.
|  | >15,000 Btu/h | EER = 7.6 COP = 2.5 | October 7, 2010.
¹ “Cap” means cooling capacity in thousand Btu/h at 95 °F outdoor dry-bulb temperature.
² And manufactured before January 1, 2017. See Table 6 of this section for updated efficiency standards that apply to this category of equipment manufactured on and after January 1, 2017.

Table 6 to § 431.97—Updated Minimum Efficiency Standards for PTAC
Equipment type | Category | Cooling capacity | Efficiency level | Compliance date: products manufactured on and after . . .
PTAC | Standard Size | <7,000 Btu/h | EER = 11.9 | January 1, 2017.
|  | ≥7,000 Btu/h and ≤15,000 Btu/h | EER = 14.0−(0.3 × Cap ¹) | January 1, 2017.
|  | >15,000 Btu/h | EER = 9.5 | January 1, 2017.
¹ “Cap” means cooling capacity in thousand Btu/h at 95 °F outdoor dry-bulb temperature.

* * * * *

Issued in Washington, DC, on September 16, 2015.
Kathleen B. Hogan,
Deputy Assistant Secretary for Energy Efficiency, Energy Efficiency and Renewable Energy.

[FR Doc. 2015-23624 Filed 9-18-15; 8:45 am]

BILLING CODE 6450-01-P